DEPARTMENT OF COMMERCE

National Oceanic and Atmospheric Administration

[RTID 0648-XB136]

Gulf of Mexico Fishery Management Council; Public Meeting

AGENCY: National Marine Fisheries Service (NMFS), National Oceanic and Atmospheric Administration (NOAA), Commerce.

ACTION: Notice of a public meeting via webinar.

SUMMARY: The Gulf of Mexico Fishery Management Council (Council) will hold a five-day hybrid (virtual and in-person) meeting to consider actions affecting the Gulf of Mexico fisheries in the exclusive economic zone (EEZ).

DATES: The meeting will convene Monday, June 21 through Friday, June 25, 2021, from 8:30 a.m. until 5 p.m. EDT, with the exception of Thursday, June 24, 2021 until 5:30 p.m. EDT and Friday, June 25, 2021 until 4:30 p.m. EDT.

ADDRESSES: The meeting will be a hybrid meeting offering both in-person and virtual options for attending the meeting. You may attend the meeting in-person at the Opal Key Resort and Marina, located at 245 Front Street, Key West, FL 33040. Please note, meeting attendees will be expected to follow COVID-19 safety protocols as determined by the Council and hotel. Such precautions may include daily temperature checks, masks, room capacity restrictions, and/or social distancing. If you prefer to attend virtually you can access the log-on information on our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, June 21, 2021; 8:30 a.m.-5 p.m.

The meeting will begin in a FULL COUNCIL—CLOSED SESSION to finalize the selection of Reef Fish and Shrimp Advisory Panel Members; and, selection of Standing and Special Scientific and Statistical Committee (SSC) Members.

Committee sessions, open to the public, will begin at approximately 1 p.m. with the Shrimp Committee receiving updates on Effort Data Collection for 2021; review and discuss Draft Framework Action: Modifications to the Gulf of Mexico Federal Shrimp Fishery Effort Monitoring and Reporting; and, receive an update on the P-Sea Windplot Pilot Program.

The Administrative/Budget Committee will review and approve the Final Funded 2021 Budget; receive an overview and discuss Potential Projects for Council Funding and modifications of Statement of Operation Practices and Procedures (SOPPs) for SSC Voting Practices.

The Migratory Species Committee will review the Highly Migratory Species Amendment 13: Three-Year Review of the Individual Bluefin Quota Program that Addresses the Directed Fisheries for Bluefin Tuna, and the Incidental Catch of Bluefin by the Pelagic Longline Fishery.

Tuesday, June 22, 2021; 8:30 a.m.-5 p.m.

The Mackerel Committee will receive an update on Coastal Migratory Pelagics Landings; review and discuss Draft Amendment 32: Modifications to the Gulf of Mexico Migratory Group Cobia Catch Limits, Possession Limits, Size Limits, and Framework Procedure including recommendations from the South Atlantic Council; Draft Options Amendment 33: Modifications to the Gulf of Mexico Migratory Group King Mackerel Catch Limits and Sector Allocations; and Draft Amendment 34: Atlantic King Mackerel Catch Levels and Management Measures.

The Habitat Protection and Restoration Committee will convene to review Draft Options: Generic Essential Fish Habitat Amendment and hold a discussion session and Draft Recommendations on President Biden's E.O. 14008: Tackling the Climate Crisis at Home and Abroad, Section 216 (c): Conserving our Nation's Lands and Water.

The Red Drum Committee will receive a presentation on the Process to Modify Red Drum Management Out to 9 nm.

Wednesday, June 23, 2021; 8:30 a.m.-5 p.m.

The Reef Fish Committee will convene to review the Reef Fish Landings; discuss Final Action Item: Reef Fish Amendment 53: Red Grouper Allocations and Annual Catch Levels and Targets; receive a presentation on Greater Amberjack Historical Landings and Potential Management Actions; receive an overview and discuss the Individual Fishing Quota 5-Year Review; and Reef Fish Amendments 36B and 36C: Modifications to Individual Fishing Quota (IFQ) Programs.

Immediately following the Reef Fish Committee Virtual and In-person meeting, the Gulf of Mexico Fishery Management Council and National Oceanic and Atmospheric Administration/National Marine Fisheries Service (NOAA/NMFS) will hold an informal Question and Answer session.

Thursday, June 24, 2021; 8:30 a.m.-5:30 p.m.

The Data Collection Committee will receive an update on Southeast For-hire Electronic Reporting (SEFHIER) Program and review a Presentation: Draft Options for Electronic Reporting due to Equipment Failure.

The Sustainable Fisheries Committee will receive a Summary Report from the Joint Council Section 102 Workgroup; review SSC Recommendations on Acceptable Biological Catch (ABC) Control Rule; receive an update for Gulf of Mexico Manna Fish Farms; and, discuss the Bycatch Reduction Methodology.

Following lunch at approximately 1:30 p.m., the Council will reconvene with a Call to Order, Announcements, and Introductions; Adoption of Agenda and Approval of Minutes. The Council will receive presentations from NOAA Office of Law Enforcement (OLE); and an overview the Commercial Fish Rules Application.

The Council will hold public testimony 2:15 p.m.-5:30 p.m., EDT for comments pertaining to taking final action on Reef Fish Amendment 53: Red Grouper Allocations and Annual Catch Levels and Targets; and, comments on Executive Order #14008 Sec 216c: Conserving Our Nations Lands and Waters; and, open testimony on other fishery issues or concerns. Public comment may begin earlier than 2:15 p.m. EDT, but will not conclude before that time. Persons wishing to give public testimony virtually must sign up on the Council website on the day of public testimony. Registration for virtual testimony closes one hour (1:15 p.m. EDT) before public testimony begins. Persons wishing to give public testimony in-person must register at the registration kiosk in the meeting room.

Friday, June 25, 2021; 8:30 a.m.-4:30 p.m.

The Council will receive committee reports from Shrimp, Administrative/Budget, Migratory Species, Mackerel, Habitat Protection and Restoration, Data Collection, Sustainable Fisheries, Reef Fish, Red Drum Management Committees, and Full Council Closed Session. The Council receive updates from the following supporting agencies: South Atlantic Fishery Management Council; Florida Law Enforcement Efforts; Gulf States Marine Fisheries Commission; U.S. Coast Guard; U.S. Fish and Wildlife Service; and Department of State.

The Council will discuss any Other Business items.

—Meeting Adjourns

The meeting will be a hybrid meeting. You may register for the webinar by visiting www.gulfcouncil.org and clicking on the Council meeting on the calendar should you choose to attend virtually instead of in-person.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Authority: 16 U.S.C. 1801 et seq.

Dated: May 27, 2021.
Tracey L. Thompson,
Acting Deputy Director, Office of Sustainable Fisheries, National Marine Fisheries Service.

[FR Doc. 2021-11549 Filed 6-1-21; 8:45 am]

BILLING CODE 3510-22-P